DEPARTMENT OF VETERANS AFFAIRS

[OMB Control No. 2900-New (0711)]

Agency Information Collection: Emergency Submission for OMB Review; Comment Request

AGENCY: Human Resources Administration, Department of Veterans Affairs.

ACTION: Notice.

SUMMARY: In compliance with the Paperwork Reduction Act (PRA) of 1995 (44 U.S.C. 3501-3521), this notice announces that the United States Department of Veterans Affairs (VA), has submitted to the Office of Management and Budget (OMB) the following emergency proposal for the collection of information under the provisions of the Paperwork Reduction Act (44 U.S.C. 3507(j)(1)). VA is requesting an emergency clearance for Request for One-VA Identification Card.

DATES: Comments must be submitted on or before January 3, 2006.

For Further Information or a Copy of the Submission Contact: Denise McLamb, Records Management Service (005E3), Department of Veterans Affairs, 810 Vermont Avenue, NW., Washington, DC 20420, (202) 565-8374, FAX (202) 565-6950 or e-mail: denise.mclamb@mail.va.gov. Please refer to “OMB Control No. 2900-New (0711). Send comments and recommendations concerning any aspect of the information collection to VA's OMB Desk Officer, OMB Human Resources and Housing Branch, New Executive Office Building, Room 10235, Washington, DC 20503 (202) 395-7316 or FAX (202) 395-6974. Please refer to “2900—New (0711).

SUPPLEMENTARY INFORMATION: Title: Request for One-VA Identification Card, VA form 0711.

OMB Control Number: 2900-New (0711).

Type of Review: New Collection.

Abstract: VA Form 0711 will collect pertinent information from employees, VA applicants seeking employment with VA, contractors, affiliates (such as students, WOC employees and others) prior to issuing a Department identification credential. The data collected will be used to personalize, print, and issue a personal identify verification card.

Affected Public: Individuals or households.

Estimated Total Annual Burden: 8,333 hours.

Estimated Average Burden Per Respondent: 5 minutes.

Frequency of Response: On occasion.

Estimated Number of Respondents: 950.

Dated: December 12, 2005.
By direction of the Secretary.
Denise McLamb,
Program Analyst, Records Management Service.

[FR Doc. E5-7574 Filed 12-19-05; 8:45 am]

BILLING CODE 8320-01-P